DEPARTMENT OF ENERGY

Federal Energy Regulatory Commission

[Project No. 14311-000]

Modern Hydro; Notice of Preliminary Permit Application Accepted for Filing and Soliciting Comments, Motions To Intervene, and Competing Applications

On November 1, 2011, Modern Hydro filed an application for a preliminary permit, pursuant to section 4(f) of the Federal Power Act (FPA), to study the feasibility of the proposed Delhi Milldam Water Power Project No. 14311 to be located at the existing Delhi Dam, on the south fork of the Maquoketa River, near the township of Delhi, in Delaware County, Iowa. The Delhi Dam is owned by the Lake Delhi Recreation Association Board. There are no federal lands associated with the project.

The proposed project would consist of: (1) The existing Delhi Dam and reservoir; (2) an existing 61-foot-wide concrete powerhouse; (3) an existing 86-foot-long concrete-gated ogee spillway with three 25-foot-wide vertical sluice gates; (4) two refurbished 2,400-volt Westinghouse generator units powered by two refurbished S. Morgan Smith turbines with a combined generating capacity of 1,500 kilowatts; (5) an existing substation connected to an existing 12.5-kilovolt distribution line; and (6) appurtenant facilities. The project would have an estimated annual generation of 2,960,000 kilowatt-hours.

Applicant Contact: Mr. Dwight Shanak, N3311 Sunrise Lane, Waupaca, WI 54981, (715) 258-5720.

FERC Contact: Tyrone A. Williams, (202) 502-6331.

Deadline for filing comments, motions to intervene, and competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-(866) 208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14311-000) in the docket number field to access the document. For assistance, contact FERC Online Support.

Dated: January 9, 2012.
Kimberly D. Bose,
Secretary.

[FR Doc. 2012-688 Filed 1-13-12; 8:45 am]

BILLING CODE 6717-01-P